DEPARTMENT OF HOMELAND SECURITY

Federal Emergency Management Agency

44 CFR Part 64

[Docket ID FEMA-2014-0002; Internal Agency Docket No. FEMA-8355]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR Part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Maryland:
Calvert County, Unincorporated Areas | 240011 | July 5, 1973, Emerg; September 28, 1984, Reg; November 19, 2014, Susp | November 19, 2014 | November 19, 2014
Chesapeake Beach, Town of, Calvert County | 240100 | September 15, 1975, Emerg; November 1, 1984, Reg; November 19, 2014, Susp | .....do | Do.
Leonardtown, Town of, Saint Mary's County | 240065 | April 14, 1975, Emerg; September 28, 1984, Reg; November 19, 2014, Susp | .....do | Do.
North Beach, Town of, Calvert County | 240012 | August 30, 1974, Emerg; September 28, 1984, Reg; November 19, 2014, Susp | .....do | Do.
Saint Mary's County, Unincorporated Areas | 240064 | April 28, 1975, Emerg; February 19, 1987, Reg; November 19, 2014, Susp | .....do | Do.
Pennsylvania:
Ashland, Borough of, Schuylkill County | 420765 | August 20, 1974, Emerg; August 1, 1990, Reg; November 19, 2014, Susp | .....do | Do.
Auburn, Borough of, Schuylkill County | 420766 | July 29, 1975, Emerg; May 17, 1989, Reg; November 19, 2014, Susp | .....do | Do.
Barry, Township of, Schuylkill County | 421997 | August 5, 1975, Emerg; May 1, 1986, Reg; November 19, 2014, Susp | .....do | Do.
Blythe, Township of, Schuylkill County | 420767 | March 30, 1973, Emerg; June 15, 1977, Reg; November 19, 2014, Susp | .....do | Do.
Branch, Township of, Schuylkill County | 421998 | December 2, 1975, Emerg; June 4, 1982, Reg; November 19, 2014, Susp | .....do | Do.
Butler, Township of, Schuylkill County | 421999 | September 15, 1975, Emerg; November 16, 1990, Reg; November 19, 2014, Susp | .....do | Do.
Cass, Township of, Schuylkill County | 422000 | December 8, 1975, Emerg; May 17, 1989, Reg; November 19, 2014, Susp | .....do | Do.
Cressona, Borough of, Schuylkill County | 420769 | May 23, 1973, Emerg; August 1, 1977, Reg; November 19, 2014, Susp | .....do | Do.
Deer Lake, Borough of, Schuylkill County | 422640 | January 22, 1976, Emerg; February 2, 1989, Reg; November 19, 2014, Susp | .....do | Do.
Delano, Township of, Schuylkill County | 422001 | April 30, 1975, Emerg; September 1, 1986, Reg; November 19, 2014, Susp | .....do | Do.
East Brunswick, Township of, Schuylkill County | 422002 | April 9, 1975, Emerg; September 1, 1986, Reg; November 19, 2014, Susp | .....do | Do.
East Norwegian, Township of, Schuylkill County | 422003 | August 7, 1975, Emerg; August 3, 1984, Reg; November 19, 2014, Susp | .....do | Do.
East Union, Township of, Schuylkill County | 422004 | April 21, 1975, Emerg; September 1, 1986, Reg; November 19, 2014, Susp | Do. | Do.
Eldred, Township of, Schuylkill County | 422005 | August 5, 1975, Emerg; September 1, 1986, Reg; November 19, 2014, Susp | .....do | Do.
Foster, Township of, Schuylkill County | 422006 | April 21, 1975, Emerg; September 1, 1986, Reg; November 19, 2014, Susp | .....do | Do.
Frackville, Borough of, Schuylkill County | 420771 | July 9, 1975, Emerg; May 1, 1986, Reg; November 19, 2014, Susp | .....do | Do.
Gilberton, Borough of, Schuylkill County | 421007 | August 18, 1972, Emerg; May 2, 1977, Reg; November 19, 2014, Susp | .....do | Do.
Girardville, Borough of, Schuylkill County | 420772 | April 29, 1975, Emerg; February 2, 1990, Reg; November 19, 2014, Susp | .....do | Do.
Gordon, Borough of, Schuylkill County | 420773 | September 6, 1974, Emerg; November 15, 1978, Reg; November 19, 2014, Susp | .....do | Do.
Hegins, Township of, Schuylkill County | 422008 | July 15, 1975, Emerg; September 1, 1986, Reg; November 19, 2014, Susp | .....do | Do.
Hubley, Township of, Schuylkill County | 422009 | October 15, 1975, Emerg; May 1, 1986, Reg; November 19, 2014, Susp | .....do | Do.
Kline, Township of, Schuylkill County | 422010 | December 26, 1975, Emerg; September 1, 1986, Reg; November 19, 2014, Susp | .....do | Do.
Landingville, Borough of, Schuylkill County | 420774 | June 28, 1973, Emerg; August 15, 1977, Reg; November 19, 2014, Susp | .....do | Do.
Mahanoy, Township of, Schuylkill County | 422011 | August 20, 1975, Emerg; September 1, 1986, Reg; November 19, 2014, Susp | .....do | Do.
McAdoo, Borough of, Schuylkill County | 420776 | June 6, 1973, Emerg; April 17, 1978, Reg; November 19, 2014, Susp | .....do | Do.
Mechanicsville, Borough of, Schuylkill County | 421994 | May 12, 1975, Emerg; May 1, 1986, Reg; November 19, 2014, Susp | .....do | Do.
Middleport, Borough of, Schuylkill County | 420777 | September 27, 1974, Emerg; September 1, 1986, Reg; November 19, 2014, Susp | .....do | Do.
Minersville, Borough of, Schuylkill County | 420778 | April 4, 1974, Emerg; March 2, 1989, Reg; November 19, 2014, Susp | .....do | Do.
Mount Carbon, Borough of, Schuylkill County | 421995 | August 28, 1975, Emerg; September 1, 1986, Reg; November 19, 2014, Susp | .....do | Do.
New Castle, Township of, Schuylkill County | 422012 | December 3, 1979, Emerg; August 13, 1982, Reg; November 19, 2014, Susp | .....do | Do.
New Philadelphia, Borough of, Schuylkill County | 420779 | May 25, 1973, Emerg; August 15, 1977, Reg; November 19, 2014, Susp | .....do | Do.
New Ringgold, Borough of, Schuylkill County | 421996 | August 22, 1975, Emerg; November 15, 1989, Reg; November 19, 2014, Susp | .....do | Do.
North Manheim, Township of, Schuylkill County | 422013 | September 29, 1975, Emerg; November 15, 1989, Reg; November 19, 2014, Susp | .....do | Do.
North Union, Township of, Schuylkill County | 422014 | July 11, 1975, Emerg; September 1, 1986, Reg; November 19, 2014, Susp | .....do | Do.
Norwegian, Township of, Schuylkill County | 422015 | April 21, 1975, Emerg; July 9, 1982, Reg; November 19, 2014, Susp | .....do | Do.
Orwigsburg, Borough of, Schuylkill County | 421204 | May 15, 1974, Emerg; March 2, 1989, Reg; November 19, 2014, Susp | .....do | Do.
Palo Alto, Borough of, Schuylkill County | 420780 | December 13, 1974, Emerg; August 3, 1984, Reg; November 19, 2014, Susp | .....do | Do.
Pine Grove, Borough of, Schuylkill County | 420781 | April 17, 1973, Emerg; December 4, 1979, Reg; November 19, 2014, Susp | .....do | Do.
Pine Grove, Township of, Schuylkill County | 420782 | June 14, 1973, Emerg; April 16, 1990, Reg; November 19, 2014, Susp | .....do | Do.
Port Carbon, Borough of, Schuylkill County | 420783 | September 15, 1972, Emerg; January 19, 1978, Reg; November 19, 2014, Susp | .....do | Do.
Port Clinton, Borough of, Schuylkill County | 420784 | December 15, 1972, Emerg; February 1, 1980, Reg; November 19, 2014, Susp | .....do | Do.
Porter, Township of, Schuylkill County | 422016 | August 18, 1975, Emerg; September 1, 1986, Reg; November 19, 2014, Susp | .....do | Do.
Pottsville, City of, Schuylkill County | 420785 | June 28, 1973, Emerg; July 5, 1977, Reg; November 19, 2014, Susp | .....do | Do.
Reilly, Township of, Schuylkill County | 422017 | April 7, 1975, Emerg; May 1, 1986, Reg; November 19, 2014, Susp | .....do | Do.
Ringtown, Borough of, Schuylkill County | 422505 | May 27, 1975, Emerg; June 25, 1976, Reg; November 19, 2014, Susp | .....do | Do.
Rush, Township of, Schuylkill County | 422018 | April 21, 1975, Emerg; January 7, 1983, Reg; November 19, 2014, Susp | .....do | Do.
Ryan, Township of, Schuylkill County | 422019 | April 7, 1975, Emerg; April 1, 1983, Reg; November 19, 2014, Susp | .....do | Do.
Schuylkill, Township of, Schuylkill County | 422020 | May 27, 1975, Emerg; March 11, 1983, Reg; November 19, 2014, Susp | .....do | Do.
Shenandoah, Borough of, Schuylkill County | 420788 | May 16, 1973, Emerg; May 1, 1986, Reg; November 19, 2014, Susp | .....do | Do.
South Manheim, Township of, Schuylkill County | 422022 | August 6, 1975, Emerg; May 4, 1989, Reg; November 19, 2014, Susp | .....do | Do.
Saint Clair, Borough of, Schuylkill County | 420786 | November 24, 1972, Emerg; March 15, 1977, Reg; November 19, 2014, Susp | .....do | Do.
Tamaqua, Borough of, Schuylkill County | 425389 | January 29, 1971, Emerg; December 3, 1971, Reg; November 19, 2014, Susp | .....do | Do.
Tower City, Borough of, Schuylkill County | 420790 | April 29, 1975, Emerg; September 1, 1986, Reg; November 19, 2014, Susp | .....do | Do.
Tremont, Township of, Schuylkill County | 422023 | March 19, 1975, Emerg; September 5, 1979, Reg; November 19, 2014, Susp | .....do | Do.
Union, Township of, Schuylkill County | 422024 | July 24, 1975, Emerg; September 1, 1986, Reg; November 19, 2014, Susp | .....do | Do.
Walker, Township of, Schuylkill County | 422026 | March 19, 1975, Emerg; December 5, 1989, Reg; November 19, 2014, Susp | .....do | Do.
Washington, Township of, Schuylkill County | 422506 | April 4, 1979, Emerg; February 2, 1990, Reg; November 19, 2014, Susp | .....do | Do.
Wayne, Township of, Schuylkill County | 422027 | November 13, 1979, Emerg; September 1, 1986, Reg; November 19, 2014, Susp | .....do | Do.
West Brunswick, Township of, Schuylkill County | 422028 | August 1, 1979, Emerg; July 17, 1989, Reg; November 19, 2014, Susp | .....do | Do.
West Mahanoy, Township of, Schuylkill County | 420792 | May 16, 1973, Emerg; April 1, 1983, Reg; November 19, 2014, Susp | .....do | Do.
West Penn, Township of, Schuylkill County | 422029 | April 3, 1979, Emerg; February 2, 1990, Reg; November 19, 2014, Susp | .....do | Do.
Virginia:
Gloucester County, Unincorporated Areas | 510071 | March 25, 1974, Emerg; August 4, 1987, Reg; November 19, 2014, Susp | .....do | Do.
Region V
Indiana:
Brownstown, Town of, Jackson County | 180317 | January 29, 1976, Emerg; January 3, 1985, Reg; November 19, 2014, Susp | .....do | Do.
Carmel, City of, Hamilton County | 180081 | August 7, 1975, Emerg; May 19, 1981, Reg; November 19, 2014, Susp | .....do | Do.
Cicero, Town of, Hamilton County | 180320 | March 24, 1975, Emerg; January 2, 1980, Reg; November 19, 2014, Susp | .....do | Do.
Crothersville, Town of, Jackson County | 180378 | September 23, 1976, Emerg; January 3, 1985, Reg; November 19, 2014, Susp | .....do | Do.
Hamilton County, Unincorporated Areas | 180080 | December 15, 1988, Emerg; December 16, 1988, Reg; November 19, 2014, Susp | .....do | Do.
Jackson County, Unincorporated Areas | 180405 | December 13, 1974, Emerg; January 5, 1984, Reg; November 19, 2014, Susp | .....do | Do.
Medora, Town of, Jackson County | 180098 | May 11, 1976, Emerg; January 5, 1984, Reg; November 19, 2014, Susp | .....do | Do.
Noblesville, City of, Hamilton County | 180082 | June 12, 1975, Emerg; March 2, 1981, Reg; November 19, 2014, Susp | .....do | Do.
Seymour, City of, Jackson County | 180099 | April 3, 1975, Emerg; November 2, 1983, Reg; November 19, 2014, Susp | .....do | Do.
Sheridan, Town of, Hamilton County | 180516 | N/A, Emerg; June 1, 2004, Reg; November 19, 2014, Susp | .....do | Do.
Westfield, City of, Hamilton County | 180083 | August 15, 1975, Emerg; March 16, 1981, Reg; November 19, 2014, Susp | .....do | Do.
Minnesota:
Albert Lea, City of, Freeborn County | 270135 | October 17, 1974, Emerg; May 3, 1982, Reg; November 19, 2014, Susp | .....do | Do.
Emmons, City of, Freeborn County | 270657 | March 25, 1977, Emerg; May 3, 1982, Reg; November 19, 2014, Susp | .....do | Do.
Freeborn County, Unincorporated Areas | 270134 | April 16, 1974, Emerg; May 3, 1982, Reg; November 19, 2014, Susp | .....do | Do.
Glenville, City of, Freeborn County | 270137 | May 2, 1974, Emerg; May 3, 1982, Reg; November 19, 2014, Susp | .....do | Do.
Twin Lakes, City of, Freeborn County | 270139 | September 22, 1977, Emerg; May 3, 1982, Reg; November 19, 2014, Susp | .....do | Do.
* do = Ditto.
Code for reading third column: Emerg.—Emergency; Reg.—Regular; Susp.—Suspension.

Dated: September 29, 2014.
David L. Miller,
Associate Administrator, Federal Insurance and Mitigation Administration, Department of Homeland Security, Federal Emergency Management Agency.

[FR Doc. 2014-24417 Filed 10-14-14; 8:45 am]

BILLING CODE 9110-12-P